ENVIRONMENTAL PROTECTION AGENCY

40 CFR Part 52

[EPA-R10-OAR-2024-0572; FRL-12455-02-R10]

Air Plan Approval; OR; Lane County Permitting Rule Revisions

AGENCY: Environmental Protection Agency (EPA).

ACTION: Final rule.

SUMMARY: The Environmental Protection Agency (EPA) approves revisions to the Oregon State Implementation Plan (SIP) applicable in Lane County, Oregon, as meeting Clean Air Act requirements. The revisions, submitted on June 26, 2024, align local stationary source permitting rules with existing State rules by eliminating generic plant site emission limits in favor of source-specific limits, updating construction notification requirements, clarifying the use of modeling and monitoring related to permitting, and streamlining the permit application process.

DATES: This final rule is effective March 2, 2026.

ADDRESSES: The EPA has established a docket for this action under Docket ID No. EPA-R10-OAR-2024-0572. All documents in the docket are listed on the https://www.regulations.gov website. Although listed in the index, some information is not publicly available, e.g., Confidential Business Information or other information whose disclosure is restricted by statute. Certain other material, such as copyrighted material, is not placed on the internet and will be publicly available only in hard copy form. Publicly available docket materials are available at https://www.regulations.gov.

FOR FURTHER INFORMATION CONTACT: Kristin Hall, Air and Radiation Division, EPA Region 10, 1200 Sixth Avenue, Suite 155, Seattle, WA 98101, at (206) 553-6357 or hall.kristin@epa.gov.

SUPPLEMENTARY INFORMATION: Throughout this document, wherever “we” or “our” is used, it means “the EPA.”

Table of Contents

I. Background

II. Final Action

III. Incorporation by Reference

IV. Statutory and Executive Order Reviews

I. Background

On June 26, 2024, the Oregon Department of Environmental Quality (DEQ) and the Lane Regional Air Protection Agency (LRAPA) submitted revisions to the Oregon SIP, codified at 40 CFR part 52, subpart MM. The Oregon DEQ is the permitting authority throughout the State, except where LRAPA has been authorized to permit sources located in Lane County, Oregon. The submitted changes, State effective May 25, 2024, update the stationary source permitting programs established in LRAPA regulations to align with recent changes to State rules (89 FR 59611, July 23, 2024).

On September 5, 2025, the EPA proposed to approve the submitted revisions (90 FR 42867).¹ The reasons for our proposed approval were stated in the proposed rulemaking and will not be re-stated here. The public comment period for our proposed action ended on October 6, 2025. We received no comments.

¹ We did not propose action on the submitted changes to title 36 of the LRAPA regulations. We intend to address them in a separate, future action.

II. Final Action

The EPA approves revisions to the Oregon SIP applicable in Lane County and submitted on June 26, 2024.² These changes are approved only to the extent the requirements apply to: (1) pollutants for which NAAQS have been established (criteria pollutants) and precursors to those criteria pollutants as determined by the EPA for the applicable geographic area; and (2) any additional pollutants that are required to be regulated under part C of title I of the Clean Air Act, but only for the purposes of meeting or avoiding the requirements of part C of title I of the Clean Air Act. The following paragraphs detail our incorporations by reference.

² We intend to address the submitted changes to title 36 of the LRAPA regulations in a separate, future action.

A. Rule Sections Approved and Incorporated by Reference

The EPA approves and incorporates specific LRAPA rule sections by reference. Upon the effective date of this action, the regulatory portion of the Oregon SIP, at 40 CFR 52.1970(c), will include the following provisions, State effective May 25, 2024:

• LRAPA section 12-001 General (establishing general provisions applicable to all LRAPA air quality regulations);

• LRAPA section 12-005 Definitions (defining terms used in the LRAPA air quality regulations);

• LRAPA section 12-010 Abbreviations and Acronyms (defining abbreviations and acronyms used in the LRAPA air quality regulations);

• LRAPA section 12-020 Exceptions (clarifying what activities are not covered by the LRAPA air quality regulations);

• LRAPA section 12-025 Reference Materials (specifying the title and version of each reference material used in the LRAPA air quality regulations);

• LRAPA section 13-005 General Duties and Powers of Board and Director (spelling out powers of the LRAPA board and LRAPA director);

• LRAPA section 13-010 Duties and Powers of the Board of Directors (listing the powers of the LRAPA board);

• LRAPA section 13-020 Duties and Function of the Director (listing the duties and functions of the LRAPA director);

• LRAPA section 13-025 Conflict of Interest (board conflict of interest requirements);

• LRAPA section 13-030 Advisory Committee (establishing a committee to advise LRAPA on air pollution related matters);

• LRAPA section 13-035 Public Records and Confidential Information (identifying public records requirements);

• LRAPA section 29-0010 Definitions (definitions for purposes of designation of air quality areas);

• LRAPA section 29-0020 Designation of Air Quality Control Regions (listing historic air quality control regions);

• LRAPA section 29-0030 Designation of Nonattainment Areas (identifying nonattainment areas in Lane County);

• LRAPA section 29-0040 Designation of Maintenance Areas (listing maintenance areas in Lane County);

• LRAPA section 29-0050 Designation of Prevention of Significant Deterioration Areas (listing PSD class I areas in Oregon and requirements for reclassifying areas);

• LRAPA section 29-0060 Redesignation of Prevention of Significant Deterioration Areas (procedures for redesignating PSD areas);

• LRAPA section 29-0070 Special Control Areas (designating special controls areas);

• LRAPA section 29-0300 Designation of Sustainment areas (listing areas designated as sustainment in Lane County);

• LRAPA section 29-0310 Designation of Reattainment Areas (listing areas designated as reattainment in Lane County);

• LRAPA section 29-0320 Priority Sources (identifying residential wood devices as priority sources for offsets);

• LRAPA section 31-0020 Applicability (listing types of permit actions requiring public notice);

• LRAPA section 31-0030 Public Notice Categories and Timing (establishing categories for different levels of public participation);

• LRAPA section 31-0040 Public Notice Information (detailing the information that is required in public notices);

• LRAPA section 31-0050 Public Notice Procedures (stating how notice will be provided to the public);

• LRAPA section 31-0080 Issuance or Denial of a Permit (procedures LRAPA will follow to issue or deny permits);

• LRAPA section 32-005 Highest and Best Practical Treatment and Control Required (permit conditions to ensure high degree of pollutant removal);

• LRAPA section 32-007 Operating and Maintenance Requirements (permit conditions to include operational, maintenance and work practices);

• LRAPA section 32-008 Typically Achievable Control Technology (TACT) (control determination procedures);

• LRAPA section 32-009 Additional Control Requirements for Stationary Sources of Air Contaminants (procedures for establishing additional pollution controls);

• LRAPA section 32-010 Visible Air Contaminant Limitations (setting visible emission standards and monitoring methods);

• LRAPA section 32-015 Particulate Emission Limitations for Sources Other Than Fuel Burning Equipment, Refuse Burning Equipment and Fugitive Emissions (limitations on particulate emissions and associated test methods);

• LRAPA section 32-020 Particulate Matter Weight Standards—Existing Combustion Sources (limitations on particulate emissions from existing fuel-burning equipment);

• LRAPA section 32-030 Particulate Matter Weight Standards—New Combustion Sources (limitations on particulate emissions from new fuel-burning equipment);

• LRAPA section 32-045 Process Weight Emission Limitations and Determination of Process Weight (limitations on particulate emissions based on operation type);

• LRAPA section 32-060 Air Conveying Systems (setting particulate matter emissions from air conveying systems);

• LRAPA section 32-065 Sulfur Content of Fuels (setting limits on fuel oil sulfur content);

• LRAPA section 32-070 Sulfur Dioxide Emission Limitations (setting limits on sulfur dioxide emissions based on heat input);

• LRAPA section 32-090 Other Emissions (stating that detrimental emissions are not allowed);

• LRAPA section 32-100 Alternative Emission Controls (Bubble) (procedures for establishing alternative emission controls);

• LRAPA section 32-8010 Particulate Matter Emissions Standards for Process Equipment (process weight limits);

• LRAPA section 33-060 Board Products Industries (Hardboard, Particleboard, Plywood Veneer) (prohibited practices for board products industries);

• LRAPA section 33-065 Charcoal Producing Plants (pollution and monitoring requirements for charcoal plants);

• LRAPA section 33-070 Kraft Pulp Mills (emission limits for units at Kraft pulp mills) except, in (1) the definitions of “non-condensables” and “other sources”, (3)(a), (4)(b), (5)(b), (6)(a) and (6)(b);

• LRAPA section 33-500 Particulate Matter Emissions Standards for Process Equipment (process weight limits);

• LRAPA section 34-010 Applicability and Requirements (identifying what types of sources are subject to the stationary source notification requirements);

• LRAPA section 34-015 Request for Information (requiring owners and operators to provide information and analysis as necessary to issue permits and ascertain compliance);

• LRAPA section 34-016 Records; Maintaining and Reporting (how to maintain records and report information to LRAPA);

• LRAPA section 34-020 Information Exempt from Disclosure (spelling out what is considered a trade secret or other category of information that may be exempt from disclosure);

• LRAPA section 34-025 Registration in General (stating that certain sources must register with LRAPA);

• LRAPA section 34-030 Registration Requirements and Re-Registration and Maintaining Registration (outlining the general requirements for registering sources, including the information to provide and forms to use);

• LRAPA section 34-035 Types of Construction/Modification Changes (listing the types of construction and modification changes requiring notification to LRAPA);

• LRAPA section 34-036 Notice to Construct Application (listing the information to be provided in a notice and required forms to use);

• LRAPA section 34-037 Construction Approval (requirements and limitations of approvals to construct and orders prohibiting construction);

• LRAPA section 34-038 Approval to Operate (requirements and limitations of approvals to operate);

• LRAPA section 37-0020 Applicability and Jurisdiction (sources required to obtain an air contaminant discharge permit (ACDP);

• LRAPA section 37-0025 Types of Permits (outlining the types of ACDPs);

• LRAPA section 37-0030 Definitions (terms defined for use in the ACDP rules);

• LRAPA section 37-0040 Application Requirements (detailing how to apply for an ACDP);

• LRAPA section 37-0052 Construction ACDP (describing the requirements for construction ACDPs);

• LRAPA section 37-0054 Short Term Activity ACDPs (describing the requirements for short term activity ACDPs);

• LRAPA section 37-0056 Basic ACDPs (describing the requirements for basic ACDPs);

• LRAPA section 37-0060 General Air Contaminant Discharge Permits (describing the requirements for general ACDPs);

• LRAPA section 37-0062 General ACDP Attachments (allowing sources to be assigned to general ACDP attachments);

• LRAPA section 37-0064 Simple ACDPs (describing the requirements for simple ACDPs);

• LRAPA section 37-0066 Standard ACDPs (describing the requirements for standard ACDPs);

• LRAPA section 37-0068 Simple and Standard ACDP Attachments (allowing the addition of requirements to existing simple and standard ACDPs);

• LRAPA section 37-0070 Permitting a Source with Multiple Activities or Processes at a Single Adjacent or Contiguous Site (allowing standard ACDPs for sources with multiple activities or processes);

• LRAPA section 37-0082 Expiration, Termination, Reinstatement or Revocation of an ACDP (governing the conditions and processes for expired, terminated, reinstated, and revoked ACDPs);

• LRAPA section 37-0084 LRAPA Initiated Modification (allowing for modifications to ACDPs when appropriate);

• LRAPA section 37-0090 Sources Subject to ACDPs and Fees (requiring sources to pay appropriate fees);

• LRAPA section 37-0094 Temporary Closure (adjusting annual fees due to temporary closure);

• LRAPA section 37-8010 Table 1—Activities and Sources (listing source categories that must obtain an ACDP);

• LRAPA section 38-0010 Applicability, General Prohibitions, General Requirements, and Jurisdiction (specifying new source review applicability and general requirements);

• LRAPA section 38-0025 Major Modification (denoting what constitutes a major modification at an existing source);

• LRAPA section 38-0030 New Source Review Procedural Requirements (required information to be submitted for new source review);

• LRAPA section 38-0034 Exemptions (requirements for temporary emission sources);

• LRAPA section 38-0045 Requirements for Sources in Sustainment Areas (PSD and net air quality benefit requirements for sustainment areas);

• LRAPA section 38-0050 Requirements for Sources in Nonattainment Areas (LAER and net air quality benefit requirements for nonattainment areas);

• LRAPA section 38-0055 Requirements for Sources in Reattainment Areas (LAER, net air quality benefit and air quality analysis requirements for reattainment areas);

• LRAPA section 38-0060 Requirements for Sources in Maintenance Areas (PSD and net air quality benefit requirements for maintenance areas);

• LRAPA section 38-0070 Prevention of Significant Deterioration Requirements for Sources in Attainment or Unclassified Areas (PSD requirements including monitoring, BACT, and air quality analysis);

• LRAPA section 38-0245 Requirements for Sources in Sustainment Areas (air quality analysis, net air quality benefit and BACT requirements for sustainment areas);

• LRAPA section 38-0250 Requirements for Sources in Nonattainment Areas (State NSR requirements for nonattainment areas);

• LRAPA section 38-0255 Requirements for Sources in Reattainment Areas (State NSR requirements for reattainment areas);

• LRAPA section 38-0260 Requirements for Sources in Maintenance Areas (State NSR requirements for maintenance areas);

• LRAPA section 38-0270 Requirements for Sources in Attainment and Unclassifiable Areas (State NSR requirements for attainment and unclassifiable areas);

• LRAPA section 38-0500 Net Air Quality Benefit for Sources Located Within or Impacting Designated Areas (net air quality benefit emission offset requirements);

• LRAPA section 38-0510 Common Offset Requirements (reasonable further progress common offset requirements), except (3);

• LRAPA section 38-0530 Requirements for Demonstrating Net Air Quality Benefit for Non-Ozone Areas (major and State NSR offset requirements for non-ozone areas);

• LRAPA section 38-0540 Sources in a Designated Area Impacting Other Designated Areas (major and State NSR offset requirements in areas impacting other designated areas);

• LRAPA section 40-0010 Purpose (identifying the purpose of air quality analysis rules);

• LRAPA section 40-0020 Definitions (listing the definitions applicable to the air quality analysis rules);

• LRAPA section 40-0030 Procedural Requirements (air quality analysis procedures);

• LRAPA section 40-0040 Air Quality Models (requiring all modeling to be based on appendix W);

• LRAPA section 40-0045 Requirements for Analysis in Maintenance Areas (maintenance area impact analysis requirements);

• LRAPA section 40-0050 Requirements for Analysis in PSD Class II and Class III Areas (PSD impact analysis requirements);

• LRAPA section 40-0060 Requirements for Demonstrating Compliance with Standards and Increments in PSD Class I Areas (PSD impact analysis requirements);

• LRAPA section 40-0070 Requirements for Demonstrating Compliance with Air Quality Related Values Protection (Federal major source AQRV compliance);

• LRAPA section 41-0030 Emission Reduction Credits (how to establish emission reduction credits and bank them);

• LRAPA section 42-0020 Applicability (stationary source plant site emission limit applicability);

• LRAPA section 42-0030 Definitions (definitions that apply to plant site emission limit rules);

• LRAPA section 42-0035 General Requirements for Establishing All PSELs (PSEL requirements for sources);

• LRAPA section 42-0041 Annual PSEL (opportunity to obtain an annual PSEL when appropriate);

• LRAPA section 42-0042 Short Term PSEL (opportunity to obtain a short term PSEL when appropriate);

• LRAPA section 42-0046 Netting Basis (procedures for establishing a netting basis when appropriate);

• LRAPA section 42-0048 Baseline Period and Baseline Emission Rate (establishing baseline for criteria pollutants and greenhouse gases for purposes of permitting);

• LRAPA section 42-0051 Actual Emissions (determining actual emissions from baseline);

• LRAPA section 42-0055 Unassigned Emissions (tracking and managing the difference between netting basis and PTE);

• LRAPA section 42-0080 Plant Site Emission Limit Compliance (requiring specific monitoring and compliance methods);

• LRAPA section 42-0090 Combining and Splitting Sources and Changing Primary SIC Code (regarding the allowable ways to combine and split sources);

• LRAPA section 48-005 Definitions (definitions for purposes of the fugitive emissions rules);

• LRAPA section 48-015 General Applicability (listing examples of sources subject to the fugitive emissions rules);

• LRAPA section 50-001 Definitions (definitions for purposes of the ambient air standards and PSD increments);

• LRAPA section 50-005 Purpose and Scope of Ambient Air Standards (identifying the scope of ambient air standards);

• LRAPA section 50-015 Suspended Particulate Matter (listing the particulate matter ambient air standards);

• LRAPA section 50-025 Sulfur Dioxide (listing the sulfur dioxide ambient air standards);

• LRAPA section 50-030 Carbon Monoxide (listing the carbon monoxide ambient air standards);

• LRAPA section 50-035 Ozone (listing the ozone ambient air standards);

• LRAPA section 50-040 Nitrogen Dioxide (listing the nitrogen dioxide ambient air standards);

• LRAPA section 50-045 Lead (listing the lead ambient air standards);

• LRAPA section 50-050 General (identifying the purpose of PSD increments);

• LRAPA section 50-055 Ambient Air PSD Increments (listing the PSD increments by area class);

• LRAPA section 50-065 Ambient Air Quality Impact Levels for Maintenance areas (impact levels for carbon monoxide and particulate matter maintenance areas);

• LRAPA section 51-005 Introduction (introduction to air pollution emergency requirements);

• LRAPA section 51-007 Definitions (definitions for purposes of air pollution emergency requirements);

• LRAPA section 51-010 Episode Stage Criteria for Air Pollution Emergencies (criteria for air pollution emergency episode stages);

• LRAPA section 51-011 Special Conditions (ozone advisories and particle fallout special conditions);

• LRAPA section 51-015 Source Emission Reduction Plans (setting forth emission reduction measures to be taken during an air pollution alert, warning, or emergency);

• LRAPA section 51-020 Preplanned Abatement Strategies (establishing when source emission reduction plans are required); and

• LRAPA section 51-025 Implementation, and Table I, Table II, Table III (setting forth air pollution episode conditions and control actions).

B. Rule Sections Approved But Not Incorporated by Reference

We approve the following rule sections to the extent the provisions relate to the implementation of requirements in the SIP, but we note we are not incorporating these provisions by reference into 40 CFR part 52, subpart MM. These types of rules are generally not incorporated by reference into the CFR because they may conflict with the EPA's independent administrative and enforcement procedures under the Clean Air Act.

• LRAPA section 31-0070 Hearing Procedures (setting procedures for permit hearings).

C. Rule Sections Removed From Incorporation by Reference

The EPA removes from incorporation by reference the following LRAPA rule sections:

• LRAPA section 37-8020 Table 2 Air Contaminant Discharge Permit (fees for air contaminant discharge permits);

• LRAPA section 34-034 Requirements for Construction (notice of construction and approval of plans requirements); and

• LRAPA section 42-0040 Generic Annual PSEL (providing for generic annual plant sit emission limits).

III. Incorporation by Reference

In this document, the EPA is finalizing regulatory text that includes incorporation by reference. In accordance with requirements of 1 CFR 51.5, we are finalizing the incorporation by reference of the provisions described in section II of this preamble and set forth in the amendments to 40 CFR part 52 in this document. The EPA has made, and will continue to make, these documents generally available through https://www.regulations.gov and at the EPA Region 10 Office (please contact the person identified in the FOR FURTHER INFORMATION CONTACT section of this preamble for more information). Therefore, these materials have been approved by the EPA for inclusion in the SIP, have been incorporated by reference by the EPA into that plan, are fully Federally-enforceable under sections 110 and 113 of the Clean Air Act as of the effective date of the final rule of the EPA's approval, and will be incorporated by reference by the Director of the Federal Register in the next update to the SIP compilation.

Also in this document, the EPA is removing regulatory text from incorporation by reference, as described in section II of this preamble.

IV. Statutory and Executive Order Reviews

Under the Clean Air Act, the Administrator is required to approve a SIP submission that complies with the provisions of the Clean Air Act and applicable Federal regulations. 42 U.S.C. 7410(k); 40 CFR 52.02(a). Thus, in reviewing SIP submissions, the EPA's role is to approve State choices, provided that they meet the criteria of the Clean Air Act. Accordingly, this action merely approves State law as meeting Federal requirements and does not impose additional requirements beyond those imposed by State law. For that reason, this action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of section 12(d) of the National Technology Transfer and Advancement Act of 1995 (15 U.S.C. 272 note) because application of those requirements would be inconsistent with the Clean Air Act.

In addition, the SIP is not approved to apply on any Indian reservation land or in any other area where the EPA or an Indian Tribe has demonstrated that a Tribe has jurisdiction. In those areas of Indian country, the rule does not have Tribal implications and will not impose substantial direct costs on Tribal governments or preempt Tribal law as specified by Executive Order 13175 (65 FR 67249, November 9, 2000).

This action is subject to the Congressional Review Act, and the EPA will submit a rule report to each House of the Congress and to the Comptroller General of the United States. This action is not a “major rule” as defined by 5 U.S.C. 804(2).

Under section 307(b)(1) of the Clean Air Act, petitions for judicial review of this action must be filed in the United States Court of Appeals for the appropriate circuit by March 30, 2026. Filing a petition for reconsideration by the Administrator of this final rule does not affect the finality of this action for the purposes of judicial review nor does it extend the time within which a petition for judicial review may be filed and shall not postpone the effectiveness of such rule or action. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Authority: 42 U.S.C. 7401 et seq.

Dated: January 23, 2026.
Emma Pokon,
Regional Administrator, Region 10.

For the reasons stated in the preamble, 40 CFR part 52 is amended as follows:

PART 52—APPROVAL AND PROMULGATION OF IMPLEMENTATION PLANS

1. The authority citation for part 52 continues to read as follows:

Authority: 42 U.S.C. 7401 et seq.

Subpart MM—Oregon

2. In § 52.1970:

i. Amend paragraph (c) table 4:

a. Under the heading “Title 12—Definitions” by revising the entries for “12-001”, “12-005”, “12-010”, “12-020”, and “12-025”;

b. Adding an undesignated center heading for “Title 13—General Duties and Powers of Board and Director” and the entries for “13-005”, “13-010”, “13-020”, “13-025”, “13-030”, and “13-035” in numerical order, immediately after the entry for “12-025”;

c. Revising the entries for “29-0010”, “29-0020”, “29-0030”, “29-0040”, “29-0050”, “29-0060”, “29-0070”, “29-0300”, “29-0310”, “29-0320”, “31-0020”, “31-0030”, “31-0040”, “31-0050”, “31-0080”, “32-005”, “32-007”, “32-008”, “32-009”, “32-010”, “32-015”, “32-020”, “32-030”, “32-045”, “32-060”, “32-065”, “32-070”, “32-090”, “32-100”, “32-8010”, “33-060”, “33-065”, “33-070”, “33-500”, “34-010”, “34-015”, “34-016”, “34-020”, “34-025”, “34-030”;

d. Removing the entry for “34-034”;

e. Revising the entries for “34-035”, “34-036”, 34-037”, “34-038”, “37-0020”, “37-0025”, “37-0030”, “37-0040”, “37-0052”, “37-0054”, “37-0056”, “37-0060”, “37-0062”, “37-0064”, “37-0066”, “37-0068”, “37-0070”, “37-0082”, “37-0084”, “37-0090”, “37-0094”, “37-8010”;

f. Removing the entry for “37-8020”;

g. Revising the entries for “38-0010”, “38-0025”, “38-0030”, “38-0034”, “38-0045”, “38-0050”, “38-0055”, “38-0060”, “38-0070”, “38-0245”, “38-0250”, “38-0255”, “38-0260”, “38-0270”, “38-0500”, “38-0510”, “38-0530”, “38-0540”, “40-0010”, “40-0020”, “40-0030”, “40-0040”, “40-0045”, “40-0050”, “40-0060”, “40-0070”, “41-0030”, “42-0020”, “42-0030”, “42-0035”;

h. Removing the entry for “42-0040”; and

i. Revising the entries for “42-0041”, “42-0042”, “42-0046”, “42-0048”, “42-0051”, “42-0055”, “42-0080”, “42-0090”, “48-005”, “48-015”; “50-001”, “50-005”, “50-015”, “50-025”, “50-030”, “50-035”, “50-040”, “50-045”, “50-050”, “50-055”, “50-065”, “51-005”, “51-007”, “51-010”, “51-011”, “51-015”, “51-020”, “51-025”, “Table I”, “Table II”, and “Table III”.

ii. Amend paragraph (e) table 3 by:

a. Removing the heading “Title 13—General Duties and Powers of Board and Director” and the entries for “13-005”, “13-010”, “13-020”, “13-025”, “13-030”, and “13-035”; and

b. Revising the entry for “31-0070”.

The additions and revisions read as follows:

§ 52.1970 Identification of plan.

* * * * *

(c) * * *

Table 4—EPA Approved Lane Regional Air Protection Agency (LRAPA) Rules for Oregon ¹
LRAPA citation | Title/subject | State effective date | EPA approval date | Explanations
* * * * * * *
Title 12—Definitions
12-001 | General | 5/24/2024 | 1/29/2026, 91 FR [INSERT FEDERAL REGISTER PAGE WHERE THE DOCUMENT BEGINS] |
12-005 | Definitions | 5/24/2024 | 1/29/2026, 91 FR [INSERT FEDERAL REGISTER PAGE WHERE THE DOCUMENT BEGINS] |
12-010 | Abbreviations and Acronyms | 5/24/2024 | 1/29/2026, 91 FR [INSERT FEDERAL REGISTER PAGE WHERE THE DOCUMENT BEGINS] |
12-020 | Exceptions | 5/24/2024 | 1/29/2026, 91 FR [INSERT FEDERAL REGISTER PAGE WHERE THE DOCUMENT BEGINS] |
12-025 | Reference Materials | 5/24/2024 | 1/29/2026, 91 FR [INSERT FEDERAL REGISTER PAGE WHERE THE DOCUMENT BEGINS] |
Title 13—General Duties and Powers of Board and Director
13-005 | General Duties and Powers of Board and Director | 5/24/2024 | 1/29/2026, 91 FR [INSERT FEDERAL REGISTER PAGE WHERE THE DOCUMENT BEGINS] |
13-010 | Duties and Powers of the Board of Directors | 5/24/2024 | 1/29/2026, 91 FR [INSERT FEDERAL REGISTER PAGE WHERE THE DOCUMENT BEGINS] |
13-020 | Duties and Function of the Director | 5/24/2024 | 1/29/2026, 91 FR [INSERT FEDERAL REGISTER PAGE WHERE THE DOCUMENT BEGINS] |
13-025 | Conflict of Interest | 5/24/2024 | 1/29/2026, 91 FR [INSERT FEDERAL REGISTER PAGE WHERE THE DOCUMENT BEGINS] |
13-030 | Advisory Committee | 5/24/2024 | 1/29/2026, 91 FR [INSERT FEDERAL REGISTER PAGE WHERE THE DOCUMENT BEGINS] |
13-035 | Public Records and Confidential Information | 5/24/2024 | 1/29/2026, 91 FR [INSERT FEDERAL REGISTER PAGE WHERE THE DOCUMENT BEGINS] |
* * * * * * *
Title 29—Designation of Air Quality Areas
29-0010 | Definitions | 5/24/2024 | 1/29/2026, 91 FR [INSERT FEDERAL REGISTER PAGE WHERE THE DOCUMENT BEGINS] |
29-0020 | Designation of Air Quality Control Regions | 5/24/2024 | 1/29/2026, 91 FR [INSERT FEDERAL REGISTER PAGE WHERE THE DOCUMENT BEGINS] |
29-0030 | Designation of Nonattainment Areas | 5/24/2024 | 1/29/2026, 91 FR [INSERT FEDERAL REGISTER PAGE WHERE THE DOCUMENT BEGINS] |
29-0040 | Designation of Maintenance Areas | 5/24/2024 | 1/29/2026, 91 FR [INSERT FEDERAL REGISTER PAGE WHERE THE DOCUMENT BEGINS] |
29-0050 | Designation of Prevention of Significant Deterioration Areas | 5/24/2024 | 1/29/2026, 91 FR [INSERT FEDERAL REGISTER PAGE WHERE THE DOCUMENT BEGINS] |
29-0060 | Redesignation of Prevention of Significant Deterioration Areas | 5/24/2024 | 1/29/2026, 91 FR [INSERT FEDERAL REGISTER PAGE WHERE THE DOCUMENT BEGINS] |
29-0070 | Special Control Areas | 5/24/2024 | 1/29/2026, 91 FR [INSERT FEDERAL REGISTER PAGE WHERE THE DOCUMENT BEGINS] |
* * * * * * *
Designation of Areas
29-0300 | Designation of Sustainment Areas | 5/24/2024 | 1/29/2026, 91 FR [INSERT FEDERAL REGISTER PAGE WHERE THE DOCUMENT BEGINS] |
29-0310 | Designation of Reattainment Areas | 5/24/2024 | 1/29/2026, 91 FR [INSERT FEDERAL REGISTER PAGE WHERE THE DOCUMENT BEGINS] |
29-0320 | Priority Sources | 5/24/2024 | 1/29/2026, 91 FR [INSERT FEDERAL REGISTER PAGE WHERE THE DOCUMENT BEGINS] |
* * * * * * *
Title 31—Public Participation
* * * * * * *
31-0020 | Applicability | 5/24/2024 | 1/29/2026, 91 FR [INSERT FEDERAL REGISTER PAGE WHERE THE DOCUMENT BEGINS] |
31-0030 | Public Notice Categories and Timing | 5/24/2024 | 1/29/2026, 91 FR [INSERT FEDERAL REGISTER PAGE WHERE THE DOCUMENT BEGINS] |
31-0040 | Public Notice Information | 5/24/2024 | 1/29/2026, 91 FR [INSERT FEDERAL REGISTER PAGE WHERE THE DOCUMENT BEGINS] |
31-0050 | Public Notice Procedures | 5/24/2024 | 1/29/2026, 91 FR [INSERT FEDERAL REGISTER PAGE WHERE THE DOCUMENT BEGINS] |
* * * * * * *
31-0080 | Issuance or Denial of Permit | 5/24/2024 | 1/29/2026, 91 FR [INSERT FEDERAL REGISTER PAGE WHERE THE DOCUMENT BEGINS] |
Title 32—Emission Standards
* * * * * * *
32-005 | Highest and Best Practicable Treatment and Control Required | 5/24/2024 | 1/29/2026, 91 FR [INSERT FEDERAL REGISTER PAGE WHERE THE DOCUMENT BEGINS] |
* * * * * * *
32-007 | Operating and Maintenance Requirements | 5/24/2024 | 1/29/2026, 91 FR [INSERT FEDERAL REGISTER PAGE WHERE THE DOCUMENT BEGINS] |
32-008 | Typically-Achievable Control Technology Requirements | 5/24/2024 | 1/29/2026, 91 FR [INSERT FEDERAL REGISTER PAGE WHERE THE DOCUMENT BEGINS] |
32-009 | Additional Control Requirements for Stationary Sources of Air Contaminants | 5/24/2024 | 1/29/2026, 91 FR [INSERT FEDERAL REGISTER PAGE WHERE THE DOCUMENT BEGINS] |
32-010 | Visible Air Contaminant Limitations | 5/24/2024 | 1/29/2026, 91 FR [INSERT FEDERAL REGISTER PAGE WHERE THE DOCUMENT BEGINS] |
32-015 | Particulate Matter Emission Limitations for Sources Other than Fuel Burning Equipment, Refuse Burning Equipment, and Fugitive Emissions | 5/24/2024 | 1/29/2026, 91 FR [INSERT FEDERAL REGISTER PAGE WHERE THE DOCUMENT BEGINS] |
32-020 | Particulate Matter Weight Standards—Existing Combustion Sources | 5/24/2024 | 1/29/2026, 91 FR [INSERT FEDERAL REGISTER PAGE WHERE THE DOCUMENT BEGINS] |
32-030 | Particulate Matter Weight Standards—New Combustion Sources | 5/24/2024 | 1/29/2026, 91 FR [INSERT FEDERAL REGISTER PAGE WHERE THE DOCUMENT BEGINS] |
32-045 | Process Weight Emission Limitations and Determination of Process Weight | 5/24/2024 | 1/29/2026, 91 FR [INSERT FEDERAL REGISTER PAGE WHERE THE DOCUMENT BEGINS] |
* * * * * * *
32-060 | Air Conveying Systems | 5/24/2024 | 1/29/2026, 91 FR [INSERT FEDERAL REGISTER PAGE WHERE THE DOCUMENT BEGINS] |
Gaseous Emission Limitations
32-065 | Sulfur Content of Fuels | 5/24/2024 | 1/29/2026, 91 FR [INSERT FEDERAL REGISTER PAGE WHERE THE DOCUMENT BEGINS] |
32-070 | Sulfur Dioxide Emission Limitations | 5/24/2024 | 1/29/2026, 91 FR [INSERT FEDERAL REGISTER PAGE WHERE THE DOCUMENT BEGINS] |
32-090 | Other Emissions | 5/24/2024 | 1/29/2026, 91 FR [INSERT FEDERAL REGISTER PAGE WHERE THE DOCUMENT BEGINS] |
32-100 | Alternative Emission Controls (Bubble) | 5/24/2024 | 1/29/2026, 91 FR [INSERT FEDERAL REGISTER PAGE WHERE THE DOCUMENT BEGINS] |
32-8010 | Particulate Matter Emissions Standards for Process Equipment | 5/24/2024 | 1/29/2026, 91 FR [INSERT FEDERAL REGISTER PAGE WHERE THE DOCUMENT BEGINS] |
Title 33—Prohibited Practices and Control of Special Classes of Industry
* * * * * * *
33-060 | Board Products Industries (Hardboard, Particleboard, Plywood Veneer) | 5/24/2024 | 1/29/2026, 91 FR [INSERT FEDERAL REGISTER PAGE WHERE THE DOCUMENT BEGINS] |
33-065 | Charcoal Producing Plants | 5/24/2024 | 1/29/2026, 91 FR [INSERT FEDERAL REGISTER PAGE WHERE THE DOCUMENT BEGINS] |
33-070 | Kraft Pulp Mills | 5/24/2024 | 1/29/2026, 91 FR [INSERT FEDERAL REGISTER PAGE WHERE THE DOCUMENT BEGINS] | Except, in (1) the definitions of “non-condensables” and “other sources”, (3)(a), (4)(b), (5)(b), (6)(a) and (6)(b).
33-500 | Particulate Matter Emissions Standards for Process Equipment | 5/24/2024 | 1/29/2026, 91 FR [INSERT FEDERAL REGISTER PAGE WHERE THE DOCUMENT BEGINS] |
Title 34—Stationary Source Notification Requirements
* * * * * * *
34-010 | Applicability and Requirements | 5/24/2024 | 1/29/2026, 91 FR [INSERT FEDERAL REGISTER PAGE WHERE THE DOCUMENT BEGINS] |
34-015 | Request for Information | 5/24/2024 | 1/29/2026, 91 FR [INSERT FEDERAL REGISTER PAGE WHERE THE DOCUMENT BEGINS] |
34-016 | Records; Maintaining and Reporting | 5/24/2024 | 1/29/2026, 91 FR [INSERT FEDERAL REGISTER PAGE WHERE THE DOCUMENT BEGINS] |
* * * * * * *
34-020 | Information Exempt from Disclosure | 5/24/2024 | 1/29/2026, 91 FR [INSERT FEDERAL REGISTER PAGE WHERE THE DOCUMENT BEGINS] |
Registration
34-025 | Registration in General | 5/24/2024 | 1/29/2026, 91 FR [INSERT FEDERAL REGISTER PAGE WHERE THE DOCUMENT BEGINS] |
34-030 | Registration Requirements and Re-Registration and Maintaining Registration | 5/24/2024 | 1/29/2026, 91 FR [INSERT FEDERAL REGISTER PAGE WHERE THE DOCUMENT BEGINS] |
Notice of Construction and Approval of Plans
34-035 | Types of Construction/Modification Changes | 5/24/2024 | 1/29/2026, 91 FR [INSERT FEDERAL REGISTER PAGE WHERE THE DOCUMENT BEGINS] |
34-036 | Notice to Construct Application | 5/24/2024 | 1/29/2026, 91 FR [INSERT FEDERAL REGISTER PAGE WHERE THE DOCUMENT BEGINS] |
34-037 | Construction Approval | 5/24/2024 | 1/29/2026, 91 FR [INSERT FEDERAL REGISTER PAGE WHERE THE DOCUMENT BEGINS] |
34-038 | Approval to Operate | 5/24/2024 | 1/29/2026, 91 FR [INSERT FEDERAL REGISTER PAGE WHERE THE DOCUMENT BEGINS] |
* * * * * * *
Title 37—Air Contaminant Discharge Permits
* * * * * * *
37-0020 | Applicability and Jurisdiction | 5/24/2024 | 1/29/2026, 91 FR [INSERT FEDERAL REGISTER PAGE WHERE THE DOCUMENT BEGINS] |
37-0025 | Types of Permits | 5/24/2024 | 1/29/2026, 91 FR [INSERT FEDERAL REGISTER PAGE WHERE THE DOCUMENT BEGINS] |
37-0030 | Definitions | 5/24/2024 | 1/29/2026, 91 FR [INSERT FEDERAL REGISTER PAGE WHERE THE DOCUMENT BEGINS] |
37-0040 | Application Requirements | 5/24/2024 | 1/29/2026, 91 FR [INSERT FEDERAL REGISTER PAGE WHERE THE DOCUMENT BEGINS] |
37-0052 | Construction ACDP | 5/24/2024 | 1/29/2026, 91 FR [INSERT FEDERAL REGISTER PAGE WHERE THE DOCUMENT BEGINS] |
37-0054 | Short Term Activity ACDP | 5/24/2024 | 1/29/2026, 91 FR [INSERT FEDERAL REGISTER PAGE WHERE THE DOCUMENT BEGINS] |
37-0056 | Basic ACDPs | 5/24/2024 | 1/29/2026, 91 FR [INSERT FEDERAL REGISTER PAGE WHERE THE DOCUMENT BEGINS] |
37-0060 | General Air Contaminant Discharge Permits | 5/24/2024 | 1/29/2026, 91 FR [INSERT FEDERAL REGISTER PAGE WHERE THE DOCUMENT BEGINS] |
37-0062 | General ACDP Attachments | 5/24/2024 | 1/29/2026, 91 FR [INSERT FEDERAL REGISTER PAGE WHERE THE DOCUMENT BEGINS] |
37-0064 | Simple ACDPs | 5/24/2024 | 1/29/2026, 91 FR [INSERT FEDERAL REGISTER PAGE WHERE THE DOCUMENT BEGINS] |
37-0066 | Standard ACDPs | 5/24/2024 | 1/29/2026, 91 FR [INSERT FEDERAL REGISTER PAGE WHERE THE DOCUMENT BEGINS] |
37-0068 | Simple and Standard ACDP Attachments | 5/24/2024 | 1/29/2026, 91 FR [INSERT FEDERAL REGISTER PAGE WHERE THE DOCUMENT BEGINS] |
37-0070 | Permitting a Source with Multiple Activities or Processes | 5/24/2024 | 1/29/2026, 91 FR [INSERT FEDERAL REGISTER PAGE WHERE THE DOCUMENT BEGINS] |
37-0082 | Expiration, Termination, Reinstatement or Revocation of an ACDP | 5/24/2024 | 1/29/2026, 91 FR [INSERT FEDERAL REGISTER PAGE WHERE THE DOCUMENT BEGINS] |
37-0084 | LRAPA Initiated Modification | 5/24/2024 | 1/29/2026, 91 FR [INSERT FEDERAL REGISTER PAGE WHERE THE DOCUMENT BEGINS] |
37-0090 | Sources Subject to ACDPs and Fees | 5/24/2024 | 1/29/2026, 91 FR [INSERT FEDERAL REGISTER PAGE WHERE THE DOCUMENT BEGINS] |
37-0094 | Temporary Closure | 5/24/2024 | 1/29/2026, 91 FR [INSERT FEDERAL REGISTER PAGE WHERE THE DOCUMENT BEGINS] |
37-8010 | Table 1—Activities and Sources | 5/24/2024 | 1/29/2026, 91 FR [INSERT FEDERAL REGISTER PAGE WHERE THE DOCUMENT BEGINS] |
Title 38—New Source Review
38-0010 | Applicability, General Prohibitions, General Requirements, and Jurisdiction | 5/24/2024 | 1/29/2026, 91 FR [INSERT FEDERAL REGISTER PAGE WHERE THE DOCUMENT BEGINS] |
* * * * * * *
38-0025 | Major Modification | 5/24/2024 | 1/29/2026, 91 FR [INSERT FEDERAL REGISTER PAGE WHERE THE DOCUMENT BEGINS] |
38-0030 | New Source Review Procedural Requirements | 5/24/2024 | 1/29/2026, 91 FR [INSERT FEDERAL REGISTER PAGE WHERE THE DOCUMENT BEGINS] |
38-0034 | Exemptions | 5/24/2024 | 1/29/2026, 91 FR [INSERT FEDERAL REGISTER PAGE WHERE THE DOCUMENT BEGINS] |
* * * * * * *
Major New Source Review
38-0045 | Requirements for Sources in Sustainment Areas | 5/24/2024 | 1/29/2026, 91 FR [INSERT FEDERAL REGISTER PAGE WHERE THE DOCUMENT BEGINS] |
38-0050 | Requirements for Sources in Nonattainment Areas | 5/24/2024 | 1/29/2026, 91 FR [INSERT FEDERAL REGISTER PAGE WHERE THE DOCUMENT BEGINS] |
38-0055 | Requirements for Sources in Reattainment Areas | 5/24/2024 | 1/29/2026, 91 FR [INSERT FEDERAL REGISTER PAGE WHERE THE DOCUMENT BEGINS] |
38-0060 | Requirements for Sources in Maintenance Areas | 5/24/2024 | 1/29/2026, 91 FR [INSERT FEDERAL REGISTER PAGE WHERE THE DOCUMENT BEGINS] |
38-0070 | Prevention of Significant Deterioration Requirements for Sources in Attainment or Unclassified Areas | 5/24/2024 | 1/29/2026, 91 FR [INSERT FEDERAL REGISTER PAGE WHERE THE DOCUMENT BEGINS] |
State New Source Review
38-0245 | Requirements for Sources in Sustainment Areas | 5/24/2024 | 1/29/2026, 91 FR [INSERT FEDERAL REGISTER PAGE WHERE THE DOCUMENT BEGINS] |
38-0250 | Requirements for Sources in Nonattainment Areas | 5/24/2024 | 1/29/2026, 91 FR [INSERT FEDERAL REGISTER PAGE WHERE THE DOCUMENT BEGINS] |
38-0255 | Requirements for Sources in Reattainment Areas | 5/24/2024 | 1/29/2026, 91 FR [INSERT FEDERAL REGISTER PAGE WHERE THE DOCUMENT BEGINS] |
38-0260 | Requirements for Sources in Maintenance Areas | 5/24/2024 | 1/29/2026, 91 FR [INSERT FEDERAL REGISTER PAGE WHERE THE DOCUMENT BEGINS] |
38-0270 | Requirements for Sources in Attainment and Unclassifiable Areas | 5/24/2024 | 1/29/2026, 91 FR [INSERT FEDERAL REGISTER PAGE WHERE THE DOCUMENT BEGINS] |
Net Air Quality Benefit Emission Offsets
38-0500 | Net Air Quality Benefit for Sources Located Within or Impacting Designated Areas | 5/24/2024 | 1/29/2026, 91 FR [INSERT FEDERAL REGISTER PAGE WHERE THE DOCUMENT BEGINS] |
38-0510 | Common Offset Requirements | 5/24/2024 | 1/29/2026, 91 FR [INSERT FEDERAL REGISTER PAGE WHERE THE DOCUMENT BEGINS] | Except (3).
38-0530 | Requirements for Demonstrating Net Air Quality Benefit for Non-Ozone Areas | 5/24/2024 | 1/29/2026, 91 FR [INSERT FEDERAL REGISTER PAGE WHERE THE DOCUMENT BEGINS] |
38-0540 | Sources in a Designated Area Impacting Other Designated Areas | 5/24/2024 | 1/29/2026, 91 FR [INSERT FEDERAL REGISTER PAGE WHERE THE DOCUMENT BEGINS] |
* * * * * * *
Title 40—Air Quality Analysis Requirements
40-0010 | Purpose | 5/24/2024 | 1/29/2026, 91 FR [INSERT FEDERAL REGISTER PAGE WHERE THE DOCUMENT BEGINS] |
40-0020 | Definitions | 5/24/2024 | 1/29/2026, 91 FR [INSERT FEDERAL REGISTER PAGE WHERE THE DOCUMENT BEGINS] |
40-0030 | Procedural Requirements | 5/24/2024 | 1/29/2026, 91 FR [INSERT FEDERAL REGISTER PAGE WHERE THE DOCUMENT BEGINS] |
40-0040 | Air Quality Models | 5/24/2024 | 1/29/2026, 91 FR [INSERT FEDERAL REGISTER PAGE WHERE THE DOCUMENT BEGINS] |
40-0045 | Requirements for Analysis in Maintenance Areas | 5/24/2024 | 1/29/2026, 91 FR [INSERT FEDERAL REGISTER PAGE WHERE THE DOCUMENT BEGINS] |
40-0050 | Requirements for Analysis in PSD Class II and Class III Areas | 5/24/2024 | 1/29/2026, 91 FR [INSERT FEDERAL REGISTER PAGE WHERE THE DOCUMENT BEGINS] |
40-0060 | Requirements for Demonstrating Compliance with Standards and Increments in PSD Class I Areas | 5/24/2024 | 1/29/2026, 91 FR [INSERT FEDERAL REGISTER PAGE WHERE THE DOCUMENT BEGINS] |
40-0070 | Requirements for Demonstrating Compliance with Air Quality Related Values Protection | 5/24/2024 | 1/29/2026, 91 FR [INSERT FEDERAL REGISTER PAGE WHERE THE DOCUMENT BEGINS] |
Title 41—Emission Reduction Credits
* * * * * * *
41-0030 | Emission Reduction Credits | 5/24/2024 | 1/29/2026, 91 FR [INSERT FEDERAL REGISTER PAGE WHERE THE DOCUMENT BEGINS] |
Title 42—Stationary Source Plant Site Emission Limits
* * * * * * *
42-0020 | Applicability | 5/24/2024 | 1/29/2026, 91 FR [INSERT FEDERAL REGISTER PAGE WHERE THE DOCUMENT BEGINS] |
42-0030 | Definitions | 5/24/2024 | 1/29/2026, 91 FR [INSERT FEDERAL REGISTER PAGE WHERE THE DOCUMENT BEGINS] |
Criteria for Plant Site Emission Limits
42-0035 | General Requirements for Establishing All PSELs | 5/24/2024 | 1/29/2026, 91 FR [INSERT FEDERAL REGISTER PAGE WHERE THE DOCUMENT BEGINS] |
42-0041 | Annual PSEL | 5/24/2024 | 1/29/2026, 91 FR [INSERT FEDERAL REGISTER PAGE WHERE THE DOCUMENT BEGINS] |
42-0042 | Short Term PSEL | 5/24/2024 | 1/29/2026, 91 FR [INSERT FEDERAL REGISTER PAGE WHERE THE DOCUMENT BEGINS] |
42-0046 | Netting Basis | 5/24/2024 | 1/29/2026, 91 FR [INSERT FEDERAL REGISTER PAGE WHERE THE DOCUMENT BEGINS] |
42-0048 | Baseline Period and Baseline Emission Rate | 5/24/2024 | 1/29/2026, 91 FR [INSERT FEDERAL REGISTER PAGE WHERE THE DOCUMENT BEGINS] |
42-0051 | Actual Emissions | 5/24/2024 | 1/29/2026, 91 FR [INSERT FEDERAL REGISTER PAGE WHERE THE DOCUMENT BEGINS] |
42-0055 | Unassigned Emissions | 5/24/2024 | 1/29/2026, 91 FR [INSERT FEDERAL REGISTER PAGE WHERE THE DOCUMENT BEGINS] |
42-0080 | Plant Site Emission Limit Compliance | 5/24/2024 | 1/29/2026, 91 FR [INSERT FEDERAL REGISTER PAGE WHERE THE DOCUMENT BEGINS] |
42-0090 | Combining and Splitting Sources and Changing Primary SIC Code | 5/24/2024 | 1/29/2026, 91 FR [INSERT FEDERAL REGISTER PAGE WHERE THE DOCUMENT BEGINS] |
* * * * * * *
Title 48—Rules for Fugitive Emissions
48-005 | Definitions | 5/24/2024 | 1/29/2026, 91 FR [INSERT FEDERAL REGISTER PAGE WHERE THE DOCUMENT BEGINS] |
* * * * * * *
48-015 | General Applicability | 5/24/2024 | 1/29/2026, 91 FR [INSERT FEDERAL REGISTER PAGE WHERE THE DOCUMENT BEGINS] |
Title 50—Ambient Air Standards and PSD Increments
50-001 | Definitions | 5/24/2024 | 1/29/2026, 91 FR [INSERT FEDERAL REGISTER PAGE WHERE THE DOCUMENT BEGINS] |
Ambient Air Quality Standards
50-005 | Purpose and Scope of Ambient Air Standards | 5/24/2024 | 1/29/2026, 91 FR [INSERT FEDERAL REGISTER PAGE WHERE THE DOCUMENT BEGINS] |
50-015 | Suspended Particulate Matter | 5/24/2024 | 1/29/2026, 91 FR [INSERT FEDERAL REGISTER PAGE WHERE THE DOCUMENT BEGINS] |
50-025 | Sulfur Dioxide | 5/24/2024 | 1/29/2026, 91 FR [INSERT FEDERAL REGISTER PAGE WHERE THE DOCUMENT BEGINS] |
50-030 | Carbon Monoxide | 5/24/2024 | 1/29/2026, 91 FR [INSERT FEDERAL REGISTER PAGE WHERE THE DOCUMENT BEGINS] |
50-035 | Ozone | 5/24/2024 | 1/29/2026, 91 FR [INSERT FEDERAL REGISTER PAGE WHERE THE DOCUMENT BEGINS] |
50-040 | Nitrogen Dioxide | 5/24/2024 | 1/29/2026, 91 FR [INSERT FEDERAL REGISTER PAGE WHERE THE DOCUMENT BEGINS] |
50-045 | Lead | 5/24/2024 | 1/29/2026, 91 FR [INSERT FEDERAL REGISTER PAGE WHERE THE DOCUMENT BEGINS] |
PSD Increments
50-050 | General | 5/24/2024 | 1/29/2026, 91 FR [INSERT FEDERAL REGISTER PAGE WHERE THE DOCUMENT BEGINS] |
50-055 | Ambient Air PSD Increments | 5/24/2024 | 1/29/2026, 91 FR [INSERT FEDERAL REGISTER PAGE WHERE THE DOCUMENT BEGINS] |
* * * * * * *
50-065 | Ambient Air Quality Impact Levels for Maintenance areas | 5/24/2024 | 1/29/2026, 91 FR [INSERT FEDERAL REGISTER PAGE WHERE THE DOCUMENT BEGINS] |
Title 51—Air Pollution Emergencies
51-005 | Introduction | 5/24/2024 | 1/29/2026, 91 FR [INSERT FEDERAL REGISTER PAGE WHERE THE DOCUMENT BEGINS] |
51-007 | Definitions | 5/24/2024 | 1/29/2026, 91 FR [INSERT FEDERAL REGISTER PAGE WHERE THE DOCUMENT BEGINS] |
51-010 | Episode Stage Criteria for Air Pollution Emergencies | 5/24/2024 | 1/29/2026, 91 FR [INSERT FEDERAL REGISTER PAGE WHERE THE DOCUMENT BEGINS] |
51-011 | Special Conditions | 5/24/2024 | 1/29/2026, 91 FR [INSERT FEDERAL REGISTER PAGE WHERE THE DOCUMENT BEGINS] |
51-015 | Source Emission Reduction Plans | 5/24/2024 | 1/29/2026, 91 FR [INSERT FEDERAL REGISTER PAGE WHERE THE DOCUMENT BEGINS] |
51-020 | Preplanned Abatement Strategies | 5/24/2024 | 1/29/2026, 91 FR [INSERT FEDERAL REGISTER PAGE WHERE THE DOCUMENT BEGINS] |
51-025 | Implementation | 5/24/2024 | 1/29/2026, 91 FR [INSERT FEDERAL REGISTER PAGE WHERE THE DOCUMENT BEGINS] |
Table I | Air Pollution Episode, Alert Conditions Emission Reduction Plan | 5/24/2024 | 1/29/2026, 91 FR [INSERT FEDERAL REGISTER PAGE WHERE THE DOCUMENT BEGINS] |
Table II | Air Pollution Episode, Warning Conditions Emission Reduction Plan | 5/24/2024 | 1/29/2026, 91 FR [INSERT FEDERAL REGISTER PAGE WHERE THE DOCUMENT BEGINS] |
Table III | Air Pollution Episode, Emergency Conditions Emission Reduction Plan | 5/24/2024 | 1/29/2026, 91 FR [INSERT FEDERAL REGISTER PAGE WHERE THE DOCUMENT BEGINS] |
¹ The EPA approves the requirements in Table 4 of this paragraph (c) only to the extent they apply to (1) pollutants for which NAAQS have been established (criteria pollutants) and precursors to those criteria pollutants as determined by the EPA for the applicable geographic area; and (2) any additional pollutants that are required to be regulated under Part C of Title I of the CAA, but only for the purposes of meeting or avoiding the requirements of Part C of Title I of the CAA.

* * * * *

(e) * * *

Table 3—Lane Regional Air Protection Agency Regulations Approved But Not Incorporated by Reference
LRAPA citation | Title/subject | State effective date | EPA approval date | Explanations
* * * * * * *
Title 31—Public Participation
31-0070 | Hearing Procedures | 5/24/2024 | 1/29/2026, 91 FR [INSERT FEDERAL REGISTER PAGE WHERE THE DOCUMENT BEGINS] |

* * * * *

[FR Doc. 2026-01735 Filed 1-28-26; 8:45 am]

BILLING CODE 6560-50-P